DEPARTMENT OF ENERGY

Notice of Intent and Request for Information Regarding Launching a Responsible Carbon Management Initiative; Reopening of Comment Period

AGENCY: Office of Fossil Energy and Carbon Management, Department of Energy.

ACTION: Reopening of public comment period.

SUMMARY: The U.S. Department of Energy (DOE) is reopening the public comment period for its Notice of Intent (NOI) and Request for Information (RFI) regarding launching a Responsible Carbon Management Initiative which was published in the Federal Register on August 11, 2023. The published NOI and RFI established a 30-day public comment period that ended on September 11, 2023. DOE received requests to extend the comment period. DOE reviewed the requests and announced on the Office of Fossil Energy and Carbon Management (FECM) website on September 6, 2023, that it would extend the comment period until September 30, 2023. Accordingly, DOE is reopening the public comment period to allow comments to be submitted until September 30, 2023.

DATES: The comment period for the NOI and RFI published on August 11, 2023 (88 FR 54608), and closed on September 11, 2023, is reopened until September 30, 2023. DOE will accept comments regarding this NOI and RFI received on and before September 30, 2023.

ADDRESSES: Interested parties may submit comments electronically to responsiblecarbonmanagementinitiative@hq.doe.gov and include “Responsible Carbon Management Initiative” in the subject line of the email. Responses must be provided as attachments to an email. Only electronic responses will be accepted.

FOR FURTHER INFORMATION CONTACT: Kelli Roemer, email: responsiblecarbonmanagementinitiative@hq.doe.gov or phone: (240) 309-9639.

SUPPLEMENTARY INFORMATION: On August 11, 2023, DOE published a NOI and RFI in the Federal Register soliciting public input on its intent to launch a Responsible Carbon Management Initiative to recognize and encourage project developers and others in industry to pursue the highest levels of safety, environmental stewardship, accountability, community engagement, and societal benefits in carbon management projects. DOE stated it would accept written comments through September 11, 2023. DOE received requests to extend the public comment period. DOE has reviewed these requests and considered the benefit to stakeholders in providing additional time to review the NOI and RFI and provide information that DOE is seeking. DOE announced on the FECM website on September 6, 2023, that it would extend the comment period until September 30, 2023.¹ Accordingly, DOE is reopening the comment period and will accept comments on and before September 30, 2023.

¹ Notice of Intent and Request for Information: Responsible Carbon Management Initiative, https://www.energy.gov/fecm/notice-intent-and-request-information-responsible-carbon-management-initiative.

Signing Authority

This document of the Department of Energy was signed on September 8, 2023, by Brad Crabtree, Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 11, 2023.
Treena V. Garrett,
Federal Register Liaison Officer, U.S. Department of Energy.

[FR Doc. 2023-19877 Filed 9-13-23; 8:45 am]

BILLING CODE 6450-01-P